ELECTION ASSISTANCE COMMISSION

Sunshine Act Notice

AGENCY: United States Election Assistance Commission.

ACTION: Revised Notice of Public Meeting for U.S. Election Assistance Commission Board of Advisors.

Date and Time: Tuesday, April 26, 2005, 6:30 p.m.-8:30 p.m., Wednesday, April 27, 2005, 8:30 a.m.-4:30 p.m. and Thursday, April 28, 2005, 8:30 a.m.-Noon.

Place: Boston Marriott Cambridge, 2 Cambridge Center, (Broadway & 3rd Street), Cambridge, MA 02142, (Massachusetts Bay Transit Station Shop: Kendall Square).

Purpose: The U.S. Election Assistance Commission (EAC) Board of Advisors, as required by the Help America Vote Act of 2002, will meet to present its views on issues regarding the administration of federal elections, and formulate recommendations to the EAC.

The Board will receive an update on recent EAC activities. It will also discuss Voting System Guidelines, EAC proposed Voluntary Guidance on the Implementation of Statewide Voter Registration Lists, overseas voting issues, EAC's research agenda and other relevant matters pertaining to the administration of federal elections. Further, the Board of Advisors will hear reports from its various subcommittees, to include a report from the Executive Director Search Committee. Additionally, the Board will take administrative actions necessary for its efficient operation, including the election of its officers and adoption of bylaws.

Any member of the public may file a written statement with the Board before, during, or after the meeting. To the extent that time permits, the Board may allow public presentation or oral statements at the meeting.

Statement of Partial Closure: A portion of this public meeting will be closed to the public. The report of the Executive Director Search Committee to the Board of Advisors will not be open to the public, as this subcommittee will discuss information of a personal nature involving applicants for a federal position where disclosure would constitute a clearly unwarranted invasion of personal privacy. Closure of this portion of the meeting is consistent with 5 U.S.C. 552b(c)(6).

Statement of Exceptional Circumstances: This revised notice of a meeting will not be published in the Federal Register 15 days prior to the meeting dates. Late notice was unavoidable due to a recent addition to the meeting's agenda, the report of the Executive Director Search Committee. This report must not be delayed, as it is a necessary step in the eventual appointment of an EAC Executive Director. This position must be filed at the earliest possible date.

* * * * *

FOR FURTHER INFORMATION CONTACT: Bryan Whitener, Telephone: (202) 566-3100.

Gracia M. Hillman,
Chair, U.S. Election Assistance Commission.

[FR Doc. 05-8164 Filed 4-20-05; 9:40 am]

BILLING CODE 6820-YN-M